DEPARTMENT OF LABOR

Employment and Training Administration

Determinations Regarding Eligiblity To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of May 1, 2022 through May 31, 2022.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Subject firm | Location | Reason(s)
98,157 | Bruker Handheld LLC, Bruker Nano Analytics Division | Kennewick, WA | Actual/Likely Increase in Imports following a Shift Abroad.
98,206 | Ross Casting and Innovation, LLC | Sidney, OH | Actual/Likely Increase in Imports following a Shift Abroad.
98,222 | Integrated Textile Solutions, Inc | Salem, VA | Increased Aggregate Imports.
98,222A | Integrated Textile Solutions, Inc | South Boston, VA | Increased Aggregate Imports.
98,231 | Woodcrafters Home Products LLC, MasterBrand Cabinets Inc., Fortune Brands | Weslaco, TX | Increased Company Imports.
98,238 | PCS Ferguson, Inc | Frederick, CO | Increased Company Imports.
98,246 | Home Products International North America, Inc | Seymour, IN | Increased Company Imports.
98,257 | NeuWave Medical Inc., Supply Chain/Operations Division | Madison, WI | Shift in Production to an FTA Country or Beneficiary.
98,258 | Schneider Electric Buildings Americas, Inc., GSC NAM Electronics Clovis | Clovis, CA | Shift in Production to an FTA Country or Beneficiary.
98,261 | Medtronic PLC | Warsaw, IN | Shift in Production to an FTA Country or Beneficiary.
98,264 | Hanwha Advanced Materials America LLC | Shelby, NC | Shift in Production to an FTA Country or Beneficiary.
98,266 | Magna Exteriors Belvidere | Belvidere, IL | Upstream Supplier.
98,274 | Grupo Antolin of Illinois | Belvidere, IL | Upstream Supplier.
98,278 | Piston Automotive LLC | Belvidere, IL | Upstream Supplier.
98,282 | Autoline Industries Indiana LLC, D/B/A CJ Automotive Indiana LLC | Butler, IN | Increased Company Imports.

Negative Determinations for Trade Adjustment Assistance

The following investigations revealed that the eligibility criteria for TAA have not been met for the reason(s) specified.

TA-W No. | Subject firm | Location | Reason(s)
96,990 | HollyFrontier Cheyenne Refining LLC | Cheyenne, WY | No Shift in Production or Other Basis.
97,048 | 3P Processing LLC | Wichita, KS | No Shift in Production or Other Basis.
98,066 | US Well Services | Pleasanton, TX | Predominant Cause of Layoffs Unrelated to Imports, Shift in Production to Beneficiary Country, or Increase in Imports Following a Shift.
98,066A | US Well Services | San Angelo, TX | Predominant Cause of Layoffs Unrelated to Imports, Shift in Production to Beneficiary Country, or Increase in Imports Following a Shift.
98,081 | Stupp Bros., Inc., Stupp Corporation | Baton Rouge, LA | No Import Increase and/or Production Shift Abroad.
98,193 | GenOn Energy Services LLC | Avon Lake, OH | No Sales or Production Decline/Shift in Production (Domestic Transfer).
98,196 | Nippon Carbide Industries | Greenville, SC | Predominant Cause of Layoffs Unrelated to Imports, Shift in Production to Beneficiary Country, or Increase in Imports Following a Shift.
98,205 | Auto Injury Solutions Inc., Protec—Third Party Clinical Services | Chicago, IL | Workers Do Not Produce an Article.
98,209 | Pacific Life Insurance Company, Life Insurance Division Information | Lynchburg, VA | Workers Do Not Produce an Article.
98,212 | Pacific Life Insurance Company, Life Insurance Division Operations | Lynchburg, VA | Workers Do Not Produce an Article.
98,220 | Decatur Plastic Products, Inc., Alabama Molding Division | Gadsden, AL | No Sales or Production Decline/Shift in Production (Domestic Transfer).
98,220A | Decatur Plastic Products, Inc., Alabama Flocking Division | Gadsden, AL | No Import Increase and/or Production Shift Abroad.
98,237 | Little Raymond's Print Shop | Indianapolis, IN | Workers Do Not Produce an Article.
98,239 | District Photo | Beltsville, MD | No Import Increase and/or Production Shift Abroad.
98,259 | Arkwright Advanced Coating Inc. Sihl Inc | Fiskeville, RI | No Sales or Production Decline/Shift in Production (Domestic Transfer).
98,263 | Weiss Instruments, LLC | Holtsville, NY | No Sales or Production Decline/Shift in Production (Domestic Transfer).
98,268 | Syncreon, Automotive Division | Belvidere, IL | Workers Do Not Produce an Article.
98,270 | Concentrix CVG Customer Management Group Inc | Pocatello, ID | Workers Do Not Produce an Article.
98,281 | WestRock CP, LLC, Panama City, FL Mill | Panama City, FL | No Sales or Production Decline/Shift in Production (Domestic Transfer).

Determinations Terminating Investigations for Trade Adjustment Assistance

The following investigations were terminated for the reason(s) specified.

TA-W No. | Subject firm | Location | Reason(s)
98,284 | Syncreon | Belvidere, IL | Negative Determination Recently Issued.

I hereby certify that the aforementioned determinations were issued during the period of May 1, 2022, through May 31, 2022. These determinations are available on the Department's website https://www.dol.gov/agencies/eta/tradeact under the searchable listing determinations or by calling the Office of Trade Adjustment Assistance toll free at 888-365-6822.

Signed at Washington, DC, this 3rd day of June 2022.
Hope D. Kinglock,
Certifying Officer, Office of Trade Adjustment Assistance.

[FR Doc. 2022-12805 Filed 6-13-22; 8:45 am]

BILLING CODE 4510-FN-P